DEPARTMENT OF COMMERCE

International Trade Administration

[A-570-827]

Certain Cased Pencils from the People's Republic of China: Rescission of Antidumping Duty New Shipper Review

AGENCY: Import Administration, International Trade Administration, Department of Commerce.

ACTION: Notice of Rescission of the Antidumping Duty New Shipper Review of Certain Cased Pencils from the People's Republic of China.

SUMMARY: On February 4, 2003, the Department of Commerce (the Department) published in the Federal Register a notice of the initiation of a new shipper review of the antidumping duty order on certain cased pencils from the People's Republic of China (PRC) covering the exporter/producer Beijing Dixon Ticonderoga Stationery Company, Ltd. (Beijing Dixon) and the period December 1, 2001, through November 30, 2002. See Certain Cased Pencils From the People's Republic of China: Initiation of Antidumping New Shipper Review, 68 FR 5619 (New Shipper Initiation). For the reasons discussed below, we are rescinding the new shipper review of Beijing Dixon.

EFFECTIVE DATE: November 4, 2003.

FOR FURTHER INFORMATION CONTACT: Magd Zalok or Howard Smith at (202) 482 - 4162 or (202) 482 - 5193, respectively; AD/CVD Enforcement, Office 4, Group II, Import Administration, International Trade Administration, U.S. Department of Commerce, 14th Street and Constitution Avenue, NW., Washington, DC 20230.

SUPPLEMENTARY INFORMATION:

Background

On December 30, 2002, the Department received a request for a new shipper review of the antidumping duty order on certain cased pencils from the PRC from Beijing Dixon, an exporter and producer of subject merchandise. Beijing Dixon's request appeared to include the relevant documentation and certifications required by section 351.214(b) of the Department's regulations. Pursuant to section 351.214(b)(2)(i) of the Department's regulations, Beijing Dixon certified that it did not export subject merchandise to the United States during the period of investigation (POI). Pursuant to sections 351.214(b)(2)(iii)(A) and (B) of the Department's regulations, Beijing Dixon also certified that it has never been affiliated with any producer or exporter who exported the subject merchandise to the United States during the POI, and that its export activities are not controlled by the PRC central government. Further, pursuant to section 351.214(b)(2)(iv) of the Department's regulations, Beijing Dixon provided documentation purporting to establish the date of its first U.S. entry of the subject merchandise, the volume of that and subsequent shipments, and the date of the first sale to an unaffiliated customer in the United States.

On January 28, 2003, the Department initiated a new shipper review of Beijing Dixon covering the period December 1, 2001 through November 30, 2002. See New Shipper Initiation. The Department issued an antidumping questionnaire to Beijing Dixon on January 30, 2003. In addition, the Department issued supplemental questionnaires to Beijing Dixon on March 21, April 3, and June 24, 2003.

Beijing Dixon provided responses to the Department's original and supplemental questionnaires on February 21, March 10, March 24, April 2, April 14, and July 15, 2003. Beijing Dixon continued to support its claim with respect to the date of its first U.S. entry of the subject merchandise. However, data placed on the record of this review indicated that Beijing Dixon may have had an additional entry of subject merchandise during the period of review (POR). See Memorandum from Thomas F. Futtner, Acting Director, AD/CVD Enforcement Group II, Office 4, to Holly A. Kuga, Acting Deputy Assistant Secretary, for Import Administration, entitled “Rescission of New Shipper Review for Beijing Dixon Ticonderoga Stationery Company, Ltd.: Certain Cased Pencils from the People's Republic of China,” dated August 13, 2003 (Intent to Rescind Memorandum). On July 15, 2003, the Department extended the time limit for completion of the preliminary results of this antidumping duty new shipper review until no later than November 24, 2003. See Certain Cased Pencils from the People's Republic of China: Extension of Time Limit for Preliminary Results of New Shipper Review, 68 FR 43084 (July 21, 2003). On July 17, 2003, the Department issued a supplemental questionnaire to Beijing Dixon to determine whether Beijing Dixon had any additional entries of subject merchandise during the POR. On July 23, 2003, in its response to the Department's July 17 supplemental questionnaire, Beijing Dixon acknowledged the existence of the unreported entry of subject merchandise.

In a memorandum, dated August 13, 2003, we notified parties of our intention to rescind the new shipper review of Beijing Dixon because information on the record of this review demonstrates that Beijing Dixon did not comply with the requirements for requesting new shipper reviews that are set forth in section 351.214(b)(2) of the Department's regulations. See Intent to Rescind Memorandum. On August 25, 2003, both Beijing Dixon and certain petitioners in the proceeding¹ submitted comments in response to the Department's Intent to Rescind Memorandum. In its comments, Beijing Dixon objected to the Department's intention to rescind the new shipper review, whereas, the petitioners, in their comments, supported the rescission of this review.

¹ The petitioners in this proceeding are the Writing Instrument Manufacturers Association (formerly the Pencil Makers Association) and its members, including Dixon Ticonderoga Company. However, the interested parties participating in this review as the petitioners are Sanford Corporation, Musgrave Pencil Company, Moon Products, Inc., and General Pencil, Inc.

Rescission of Review

We have considered the information on the record of this review, including the comments of Beijing Dixon and the petitioners, and have reached a final determination to rescind this new shipper review because Beijing Dixon did not comply with the requirements for requesting new shipper reviews set forth in section 351.214(b)(2) of the Department's regulations. Specifically, Beijing Dixon did not provide documentation establishing the date of its first entry of subject merchandise during the POR, did not provide the certification from the producer of the pencils included in the unreported shipment that the producer did not export subject merchandise to the United States during the POI, and did not provide documentation establishing the date of the first sale to an unaffiliated customer in the United States. See sections 351.214(b)(2)(ii) and (iv) of the Department's regulations. Therefore, we find it appropriate to rescind the new shipper review of Beijing Dixon. For further details, see memorandum from Holly A. Kuga, Acting Deputy Assistant Secretary, for Import Administration, to James J. Jochum, Assistant Secretary for Import Administration, entitled “Final Rescission of the New Shipper Review of Certain Cased Pencils from the People's Republic of China for Beijing Dixon Ticonderoga Stationery Company, Ltd.,” dated concurrently with this notice (Final Rescission Memorandum), which discusses the comments received from Beijing Dixon and the petitioners.

Cash Deposit Requirements

The Department will notify the U.S. Customs and Border Protection (CBP) that bonding is no longer permitted to fulfill security requirements for shipments of certain cased pencils from the PRC produced and exported by Beijing Dixon and entered, or withdrawn from warehouse, for consumption in the United States on or after the publication of this rescission notice in the Federal Register. The Department will further notify the CBP that a cash deposit of 114.90 percent ad valorem should be collected for such entries.

Notification to Interested Parties

This notice also serves as the only reminder to parties subject to administrative protective orders (APO) of their responsibility concerning the disposition of proprietary information disclosed under APO in accordance with section 351.305 (a)(3) of the Department's regulations. Timely written notification of the return/destruction of APO material or conversion to judicial protective order is hereby requested. Failure to comply with the regulations and terms of an APO is a violation which is subject to sanctions.

We are issuing and publishing this determination and notice in accordance with sections 751(a)(2)(B) and 777(i) of the Tariff Act of 1930, as amended.

Dated: October 27, 2003.
James J. Jochum,
Assistant Secretary for Import Administration.

[FR Doc. 03-27689 Filed 11-3-03; 8:45 am]

BILLING CODE 3510-DS-S